DEPARTMENT OF THE INTERIOR

Office of Wildland Fire Coordination

[FA 108 2810 HT 001R]

Notice of Meeting, Joint Fire Science Program Stakeholder Advisory Group

AGENCY: Office of Wildland Fire Coordination, Interior.

ACTION: Notice of meeting.

SUMMARY: The Joint Fire Science Program Stakeholder Advisory Group will conduct a meeting to assess past and current research and to identify priorities for future research. The meeting is open to the public.

DATES: The meeting will convene on Monday, June 10, 2002 at 8 a.m. and continue until 4:30 p.m. The meeting will resume Tuesday, June 11, 2002 from 8 a.m. to 3:30 p.m. Written material and requests to make oral presentations should reach the Department of the Interior, at the address below, on or before June 3, 2002.

ADDRESSES: The meeting will be held at the Westcoast ParkCenter Suites Hotel, 424 East ParkCenter Boulevard, Boise, ID 83706. Written material and requests to make oral presentations should be sent to Tim Hartzell, Office of Wildland Fire Coordination, MS-3060 MIB, Department of the Interior, 1849 C Street, NW., Washington, DC 20240.

FOR FURTHER INFORMATION CONTACT: Tim Hartzell, Designated Federal Official; telephone (202) 606-3447; fax: (202) 606-3150; email: Erica_Kim@blm.gov.

SUPPLEMENTARY INFORMATION: Notice of this meeting is given under the Federal Advisory Committee Act, 5 U.S.C. App. 2. Additional information about the Joint Fire Science Program Stakeholder Advisory Group, including any revised agenda for the June 10 and 11 meeting that occurs after this Federal Register notice is published, may be found on the World Wide Web at http://www.nifc.gov/joint_ fire_—sci/SHAG/ facaind.htm.

Draft Agenda of the June 10 and 11, 2002 Meeting

A. Welcome to Boise meeting.

B. Preliminary results from Joint Fire Science Program (JFSP) review.

C. JFSP Governing Board response to previous Stakeholder Group recommendations.

D. Results of JFSP Principal Investigator workshop (held March 10-14, 2002).

E. Additional Stakeholder Group recommendations for the Governing Board.

F. JFSP research project presentations.

G. Discussion of fire-related specialties (i.e. prevention and education, preparedness and suppression, fuels management, land stabilization & rehabilitation, and the state view.

H. National Fire Plan.

I. Discussion: Cohesive Strategy (needs for fuels work).

J. Discussion: Landfire (one method to achieve this need).

K. Discussion: How to use the data and compile the information (possible solution for need).

L. Social science report (Burning Questions) to the National Wildfire Coordinating Group, implementation plan for social science report, and Interagency Fire Research Coordination Council.

M. Awareness strategy for JFSP.

N. Technology transfer for JFSP-funded products.

O. Time for public input (presentations will be limited to 5 minutes).

This meeting is open to the public. At the discretion of the Designated Federal Official, members of the public may make oral presentations during the meeting. Persons wishing to make oral presentations should notify Tim Hartzell no later than June 3, 2002. If a person submitting material would like a copy distributed to each member of the committee in advance of the meeting, that person should submit 40 copies to Tim Hartzell no later than June 3, 2002.

Information on Services for Individuals With Disabilities

For information on facilities or services for individuals with disabilities, or to request special assistance at the meeting, contact Tim Hartzell.

Dated: May 2, 2002.
Tim C. Hartzell,
Director, Office of Wildland Fire Coordination, Department of the Interior.

[FR Doc. 02-11456 Filed 5-7-02; 8:45 am]

BILLING CODE 4310-DW-P